ENVIRONMENTAL PROTECTION AGENCY

40 CFR Part 136

[OW-2004-0014; FRL-7952-7]

RIN 2040-AE68

Guidelines Establishing Test Procedures for the Analysis of Pollutants; Analytical Methods for Biological Pollutants in Wastewater and Sewage Sludge; Proposed Rule

Correction

In proposed rule document 05-16195 beginning on page 48256, in the issue of Tuesday, August 16, 2005, make the following corrections:

§136.3 [Corrected]

1. On page 48264, in §136.3(a), in the table, under the heading Method¹, in the eighth line, “MF¹² ¹⁶” should read “MF² ¹⁶”.

2. On page 48267, in the same section, the table is corrected in part to read as follows:

Table IG.—List of Approved Microbiological Methods for Ambient Water
Parameter and units | Method ¹ | EPA | Standard methods 18th, 19th, 20th ed.⁴ | Standard methods on-line ⁴ | AOAC, ASTM, USGS | Other
* * * * * * *
7. Enterococci, number per 100 mL | MTF 6 8 multiple tube multiple tube/multiple well |  | 9230B | 9230B-93 | D6503-99 ⁹ | Entero- lert ® 12 22
| MF 2 5 6 7 8 two step, | 1106.1 ²³ | 9230C | 9230C-93 | D5259-92 ⁹ |
| single step, or Plate count | 1600 ²⁴, p. 143 ³ |  |  |  |
Protozoa:
8. Cryptosporidium | Filtration/IMS/FA | 1622 ²⁵, 1623 ²⁶ |  |  |  |
9. Giardia | Filtration/IMS/FA | 1623 ²⁶ |  |  |  |

[FR Doc. C5-16195 Filed 9-1-05; 8:45 am]

BILLING CODE 1505-01-D